DEPARTMENT OF DEFENSE

Office of the Secretary

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on December 20, 2004 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on October 28, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 12, 2004.
Jeannette Owings-Ballard,
OSD Federal Register Liaison Officer, Department of Defense.

DHA 10

System name:

DoD Women, Infants, and Children Overseas Participant Information Management System.

System location:

Choctaw Management Services Enterprises, 2161 NW., Military Highway, Suite 308, San Antonio, TX 78213-1844, and at WIC Overseas sites in Europe, Latin America and Pacific. For a complete listing of all facility addresses maintaining these records, write to the system manager.

Categories of individuals covered by the system:

Members of the Armed Forces, civilian employees, and DoD contractors living overseas (or in a U.S. Territory or possession), and their family members who are eligible for the DoD Women, Infants, and Children Overseas Program.

Categories of records in the system:

Records consist of individual's or sponsor's name, Social Security Number, current address, income information, nutritional/medical history data, and whether the participants have received nutritional education and counseling.

Authority for maintenance of the system:

10 U.S.C. 1060a, Special Supplemental Food Program; 42 U.S.C. Chapter 13A, Child Nutrition; and E.O. 9397 (SSN).

Purpose(s):

DoD is responsible for providing Women, Infants, and Children (WIC) benefits to eligible members of the Armed Forces, civilian employees, and DoD contractors living overseas, and their family members. Records are being collected and maintained to determine eligibility for the DoD WIC Overseas Program. The program provides eligible participants with supplemental nutritious food, nutrition counseling and education, nutrition-health screening, and referrals to other health agencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of OSD's compilation of systems of records notices apply to this system.

Policies and practices for storing, retrieving, accessing, retaining, and disposing of records in the system:

Storage:

Records are maintained on paper in file folders, on a microcomputer system, on diskette, on compact disk.

Retrievability:

Records are retrieved by the sponsor's Social Security Number and/or name or the participant's name and/or Social Security Number.

Safeguards:

Records are maintained in a controlled facility. Physical entry is restricted by the use of locks, guards, or administrative procedures. Access to records is limited to those officials who require the records to perform their official duties consistent with the purpose for which the information was collected. All personnel whose official duties require access to the information are trained in the proper safeguarding and use of the information. Access to computerized data is restricted by passwords, which are changed periodically. Computer terminals are located in supervised areas with access control.

Retention and disposal:

Paper files are retained in active file until participants relocate or become ineligible to receive WIC Overseas services. The files are held for one additional year, and then destroyed by shredding, pulping, macerating, or burning.

System manager(s) and address:

Program Manager, TRICARE Management Activity, Joint Health Plan Coordination, 5111 Leesburg Pike, Suite 810, Falls Church, VA 22041-3206.

Notification procedure:

Individuals seeking to determine whether this system of records contains information about themselves should address written inquiries to the TRICARE Management Activity, Department of Defense, ATTN: TMA Privacy Officer, 5111 Leesburg Pike, Suite 810, Falls Church, VA 22041-3206.

Request should contain participant's and/or sponsor's full name, their Social Security Number, and current address and telephone number.

Record access procedures:

Individuals seeking to determine whether information about themselves is contained in this system of records should address written inquiries to the TRICARE Management Activity, Department of Defense, ATTN: TMA Privacy Officer, 5111 Leesburg Pike, Suite 810, Falls Church, VA 22041-3206.

Request should contain participant's and/or sponsor's full name, their Social Security Number, and current address and telephone number.

Contesting record procedures:

The OSD rules for accessing records, for contesting contents and appealing initial agency determinations are published in OSD Administrative Instruction 81; 32 CFR part 311; or may be obtained from the system manager.

Record source categories:

Individuals applying for WIC Overseas Program benefits.

Exemptions claimed for the system:

None.

[FR Doc. 04-25547 Filed 11-17-04; 8:45 am]

BILLING CODE 5001-06-P